DEPARTMENT OF THE INTERIOR

Bureau of Land Management

[MT-010-1060-ET; WYW 152420]

Notice of Proposed Withdrawal and Opportunity for Public Meeting; Wyoming

AGENCY: Bureau of Land Management, Interior.

ACTION: Notice.

SUMMARY: The Bureau of Land Management, proposes to withdraw 1,960.10 acres of public land to protect wild horse and wildlife habitat, and watershed, recreation, cultural, and scenic values within the Pryor Mountain Wild Horse Range. This notice closes the land for up to 2 years from location and entry under the general land laws, including the mining laws, subject to valid existing rights.

DATES: Comments must be received by September 23, 2002.

ADDRESSES: Comments and meeting requests should be sent to the State Director, Bureau of Land Management, Montana State Office, P.O. Box 36800, Billings, Montana 59107-6800.

FOR FURTHER INFORMATION CONTACT: Sandy Ward, BLM Montana State Office, 406-896-5052 or Janice MaChipiness, BLM, Billings Field Office, P.O. Box 36800, Billings, Montana 59107-6800, 406-896-5263.

SUPPLEMENTARY INFORMATION: On September 17, 2001, a petition was approved allowing the Bureau of Land Management to file an application to withdraw the following-described land from settlement, sale, location and entry under the general land laws, including location and entry under the mining laws, but not from leasing under the mineral leasing laws:

Sixth Principle Meridian, Wyoming

T. 58 N., R.. 95 W.,

Sec. 19, lot 2 and SE¼NE¼;

Sec. 20, N½S½, SE¼SW¼, and S½SE¼;

Sec. 21, Southwest Diagonal Half SW¼;

Sec. 23, NE¼SW¼;

Sec. 26, SW¼NW¼ and W½SW¼;

Sec. 27, S½;

Sec. 28, NW¼NE¼, S½NE¼, and S½;

Sec. 29, NE¼, NE¼NW¼, and NE¼SE¼;

Sec. 33, NE¼ and NE¼NW¼;

Sec. 34, NW¼.

The above-described land contains 1,960.10 acres in Big Horn County, Wyoming.

For a period of 90 days from the date of publication of this notice, all persons who wish to submit comments, suggestions, or objections in connection with the proposed withdrawal may present their views in writing to the Montana State Director.

Notice is hereby given that an opportunity for a public meeting is afforded in connection with the proposed withdrawal. All interested persons who desire a public meeting for the purpose of being heard on the proposed withdrawal must submit a written request to the Montana State Director within 90 days from the date of publication of this notice. Upon determination by the authorized officer that a public meeting will be held, a notice of the time and place will be published in the Federal Register at least 30 days before the scheduled date of the meeting.

The application will be processed in accordance with the regulations set forth in 43 CFR part 2300.

For a period of 2 years from the date of publication of this notice in the Federal Register, the lands will be segregated as specified above, subject to valid existing rights, unless the proposal is denied or canceled or the withdrawal is finalized prior to that date. Non-surface disturbing activities of a temporary nature which will not significantly impact the values to be protected by the withdrawal may be allowed with the approval of the authorized officer of the BLM during the segregative period.

Dated: September 27, 2001.
Howard A. Lemm,
Acting Deputy State Director, Division of Resources.

Editorial Note: This document was received in the Office of the Federal Register on June 20, 2001.

[FR Doc. 02-16004 Filed 6-24-02; 8:45 am]

BILLING CODE 4310-$$-P